DEPARTMENT OF THE INTERIOR

Minerals Management Service

30 CFR Parts 250, 253, 254, 256

[Docket ID MMS-2007-OMM-0059]

RIN 1010-AD11

Oil and Gas and Sulphur Operations in the Outer Continental Shelf-Pipelines and Pipeline Rights-of-Way; Reopening Public Comment Period

AGENCY: Minerals Management Service (MMS), Interior.

ACTION: Reopening of Comment Period for Proposed Rulemaking.

SUMMARY: This action reopens the period for submitting comments on the proposed rule published on October 3, 2007. That proposed rule requested comments on the revisions to Outer Continental Shelf pipeline and pipeline rights-of-way regulations. The comment period has been reopened to March 17, 2008. The MMS will hold a public meeting to discuss the proposed rule in the Gulf of Mexico Regional Office on February 22, 2008.

DATES: The comment period for proposed rule AD-11, pipelines and pipeline rights-of-way published on October 3, 2007 (72 FR 56442), is being reopened until March 17, 2008. The MMS may not fully consider comments received after this date.

Public meeting date: February 22, 2008, beginning at 8:30 a.m.

Public meeting location: The meeting will be held at the Gulf of Mexico Regional Office, Minerals Management Service, Room 111, 1201 Elmwood Park Boulevard, New Orleans, Louisiana, 70123-2394. All interested parties are invited to attend. A final agenda and meeting format will be posted on the MMS Web site at http://www.mms.gov/ under Announcements/Workshops. The MMS encourages written comments responding to this notice or the public meeting discussions.

ADDRESSES: You may submit comments on the rulemaking by any of the following methods. Please use the Regulation Identifier Number (RIN) 1010-AD11 as an identifier in your message. See also Public Availability of Comments under Supplementary Information.

• Federal eRulemaking Portal: http://www.regulations.gov. Under the tab “More Search Options,” click Advanced Docket Search, then select “Minerals Management Service” from the agency drop-down menu, then click “submit.” In the Docket ID column, select MMS-2007-OMM-0059 to submit public comments and to view supporting and related materials available for this rulemaking. Information on using Regulations.gov, including instructions for accessing documents, submitting comments, and viewing the docket after the close of the comment period, is available through the site's “User Tips” link. The MMS will post all comments.

• Mail or hand-carry comments to the Department of the Interior; Minerals Management Service; Attention: Regulations and Standards Branch (RSB); 381 Elden Street, MS-4024, Herndon, Virginia 20170-4817. Please reference “Oil and Gas and Sulphur Operations in the Outer Continental Shelf-Pipelines and Pipeline Rights-of-Way, 1010-AD11” in your comments and include your name and return address.

FOR FURTHER INFORMATION CONTACT: Richard Ensele, Regulations and Standards Branch at (703) 787-1583.

SUPPLEMENTARY INFORMATION: Industry has requested more time to review the proposal and submit comments. Commenters have specifically pointed to the comprehensive nature of the rule and the potential for jurisdictional conflicts between MMS and the Department of Transportation regulations as the reason for requesting additional time. The MMS has agreed to reopen the comment period to March 17, 2008.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: February 13, 2008.
C. Stephen Allred,
Assistant Secretary, Land and Minerals Management.

[FR Doc. E8-3201 Filed 2-20-08; 8:45 am]

BILLING CODE 4310-MR-P